DEPARTMENT OF THE INTERIOR

Bureau of Land Management

[CO-933-01-1320-EL; COC 62920]

Notice of Public Hearing and Request for Comments on Environmental Assessment, Maximum Economic Recovery Report, and Fair Market Value; Application for Competitive Coal Lease COC 62920; Colorado

AGENCY: Bureau of Land Management, Interior.

ACTION: Notice of Public Hearing.

SUMMARY: Bureau of Land Management, Colorado State Office, Lakewood, Colorado, hereby gives notice that a public hearing will be held to receive comments on the environmental assessment, maximum economic recovery, and fair market value of federal coal to be offered. An application for coal lease was filed by National King Coal, LLC, requesting the Bureau of Land Management offer for competitive lease 1,304.51 acres of federal coal in La Plata County, Colorado.

DATES: The public hearing will be held at 7 p.m., May 15, 2001. Written comments should be received no later than May 22, 2001.

ADDRESSES: The public hearing will be held in the San Juan Field Office, Public Lands Center, 15 Burnett Court, Durango, Colorado 81301. Written comments should be addressed to the Bureau of Land Management, Calvin Joyner, San Juan Field Office Manager, San Juan Field Office, 15 Burnett Court, Durango, Colorado 81301.

FOR FURTHER INFORMATION CONTACT: Cal Joyner, Field Office Manager, San Juan Field Office at the address above, or by telephone at 970-247-4874.

SUPPLEMENTARY INFORMATION: Bureau of Land Management, Colorado State Office, Lakewood, Colorado, hereby gives notice that a public hearing will be held on May 15, 1201, at 7 p.m., in the Public Lands Center at the address given above.

An application for coal lease was filed by National King Coal, LLC, requesting the Bureau of Land Management offer for competitive lease federal coal in the lands outside established coal production regions described as:

T. 35 N., R. 11 W., N.M.P.M.

Sec. 19, lots 4, 5, E½SW¼, and SE¼.

T. 35 N., R. 12 W., N.M.P.M.

Sec. 24, lots 1, 2, and SW¼SE¼;

Sec. 25, lots 1, 2, W½NE¼, and W½;

Sec. 26, SE¼NE¼, E½SE¼, and SW¼SE¼;

Sec. 35, NE¼, and N½SE¼.

Containing 1,304.51 acres.

The coal resource to be offered is limited to coal recoverable by underground mining methods.

The purpose of the hearing is to obtain public comments on the environmental assessment and on the following items:

(1) The method of mining to be employed to obtain maximum economic recovery of the coal,

(2) The impact that mining the coal in the proposed leasehold may have on the area, and

(3) The methods of determining the fair market value of the coal to be offered.

Written requests to testify orally at the May 15, 2001, public hearing should be received at the San Juan Field Office prior to the close of business May 15, 2001. Those who indicate they wish to testify when they register at the hearing may have an opportunity if time is available.

In addition, the public is invited to submit written comments concerning the fair market value and maximum economic recovery of the coal resource. Public comments will be utilized in establishing fair market value for the coal resource in the described lands. Comments should address specific factors related to fair market value including, but not limited to:

1. The quality and quantity of the coal resource.

2. The price that the mined coal would bring in the market place.

3. The cost of producing the coal.

4. The interest rate at which anticipated income streams would be discounted.

5. Depreciation and other accounting factors.

6. The mining method or methods which would achieve maximum economic recovery of the coal.

7. Documented information on the terms and conditions of recent and similar coal land transactions in the lease area, and

8. Any comparable sales data of similar coal lands.

Should any information submitted as comments be considered to be proprietary by the commenter, the information should be labeled as such and stated in the first page of the submission. Written comments on the environmental assessment, maximum economic recovery, and fair market value should be sent to the San Juan Field Office at the above address prior to close of business on May 15, 2001.

Substantive comments, whether written or oral, will receive equal consideration prior to any lease offering.

The Draft Environmental Assessment and Maximum Economic Recovery Report are available from the San Juan Field Office upon request.

A copy of the Draft Environmental Assessment, the Maximum Economic Recovery Report, the case file, and the comments submitted by the public, except those portions identified as proprietary by the commenter and meeting exemptions stated in the Freedom of Information Act, will be available for public inspection at the Colorado State Office, 2850 Youngfield, Lakewood, Colorado, 80215.

Dated: April 9, 2001.
Karen A. Purvis,
Solid Minerals Staff, Resource Services.

[FR Doc. 01-10209 Filed 4-24-01; 8:45 am]

BILLING CODE 4310-JB-P